DEPARTMENT OF THE INTERIOR

Bureau of Land Management

[CO-170-1430-00; COC 64613, COC 64614]

Notice of Realty Action: Commercial Permit/Lease/Easement on Public Land.

AGENCY: Bureau of Land Management, Interior.

ACTION: Proposed commercial permit/lease/easement, section 302, Federal Land Policy and Management Act.

SUMMARY: The Bureau of Land Management, San Juan Field Office, Durango, Colorado, has for consideration interest in land use authorization(s) under Section 302 of the Federal Land Policy and Management Act of 1976 (90 Stat. 2762; 43 U.S.C. 1732), and regulations at 43 CFR Part 2920. There are two proponents for use of BLM managed public lands in the Silverton, Colorado vicinity. Core Mountain Enterprises, LLC proposes to use approximately 1600 acres of public land for a recreation/learning facility. Velocity Peak Inc, proposes to use approximately 3660 acres of public land for recreation development. The respective areas of proposed use overlap in some locations.

Description: An area of federal lands managed by the Bureau of Land Management, Department of the Interior, lying approximately within sections 20-21, 27-34 of protracted Township 42 N., R.7 W., and, also within sections 3-9 of protracted Township 41 N., R.7 W., New Mexico Principal Meridian. Further described as north of Silverton, in San Juan County, Colorado, and bounded as follows: Beginning at the north end of Silverton, thence westerly along Cement Creek and Colorado State Highway #110, to Gladstone, thence southeasterly along the Middle Fork of Cement Creek to the divide between the Middle Fork Cement Creek and the South Fork of the Animas River, thence south along the eastern slope of the Boulder Gulch drainage to Colorado State Highway #110, thence southwest to the north end of Silverton and the point of beginning.

The area described contains approximately 3660 acres of federal land and is exclusive of the private land adjacent to and contained within the perimeter of the project.

A determination to analyze the proposed projects separately or jointly will be made subsequent to a review of the proponents' applications which will be accepted after the publication of the NORA.

If found suitable for the proposed uses, such uses would be authorized through a competitive or non-competitive process, by permit, lease, or easement, as appropriate, at fair market rental, paid annually in advance. A permit or permits, lease or leases, or easement or easements, singly or in combination, could authorize use of the land for extreme skiing/snow-boarding and winter related learning courses offered during the winter months, and biking, hiking and all season sightseeing. A holder of a permit, easement, or lease would be required, in advance of authorization, to agree to the terms and conditions of 43 CFR 2920.7 and such additional terms and conditions as are deemed necessary for the particular use authorization.

Permitting/leasing or issuance of easements under Section 302 of FLPMA within the above-described area would be consistent with the Bureau of Land Management's current San Juan Resource Area Management Plan.

An authorized permittee, lessee, or easement holder, would be required, in advance, to reimburse the United States for reasonable administrative fees and monitoring of construction, operation, maintenance, and rehabilitation of the land authorized. The reimbursement of costs would be in accordance with 43 CFR 2920.6.

Any permit, lease, or easement authorized would be subject to valid existing rights, including, but not limited to the following:

1. A right-of-way for microwave reflector purposes granted to Western Tele-Comm by right-of-way Colorado 4702, under the Act of March 11, 1911.

2. A right-of-way for electric power distribution line granted to San Miguel Power Association by right-of-way Colorado 18281, under the Act of February 15, 1901 (16 U.S.C. 79, 522).

3. A right-of-way for public highway granted to the Colorado Department of Transportation by right-of-way Colorado 44623, under the Act of October 21, 1976 (43 U.S.C. 1761).

4. A right-of-way for telephone service granted to QWEST Corporation by right-of-way Colorado 57856, under the Act of October 21, 1976 (43 U.S.C. 1761).

5. A right-of-way for water facility granted to the Town of Silverton by right-of-way Colorado 39506, under the Act of October 21, 1976 (43 U.S.C. 1761).

6. A right-of-way for access road granted to John Quenoy, et al, by right-of-way Colorado 46581, under the Act of October 21, 1976 (43 U.S.C. 1761).

7. A right-of-way for a communication site granted to San Miguel Power by right-of-way Colorado 36698, under the Act of October 21, 1976 (43 U.S.C. 1761).

8. A right-of-way for electric power distribution line granted to San Miguel Power Association by right-of-way Colorado 7845, under the Act of March 4, 1911 (16 U.S.C. 5, 420, 523).

Detailed information is available for review at the office of the Bureau of Land Management, San Juan Field Office, 15 Burnett Court, Durango, Colorado.

DATES: Interested parties may submit comments until March 12, 2001, to: Bureau of Land Management, Field Office Manager, San Juan Field Office, 15 Burnett Court, Durango, Colorado 81301.

FOR FURTHER INFORMATION CONTACT: Charlie Higby, San Juan Field Office, Bureau of Land Management, 15 Burnett Court, Durango, Colorado 81301; (970) 247-4874.

Dated: January 10, 2001.
Calvin Joyner,
Field Office Manager.

[FR Doc. 01-1361 Filed 1-25-01; 8:45 am]

BILLING CODE 4310-JB-U